DEPARTMENT OF AGRICULTURE

Office of the Secretary

Request for Nominations of Members for the National Agricultural Research, Extension, Education, and Economics Advisory Board, Specialty Crop Committee, and National Genetics Advisory Council

AGENCY: Research, Education, and Economics, USDA.

ACTION: Re-opening of solicitation for membership.

SUMMARY: In accordance with the Federal Advisory Committee Act, the U.S. Department of Agriculture (USDA) announces the re-opening of the solicitation for nominations to fill vacancies on the National Agricultural Research, Extension, Education, and Economics (NAREEE) Advisory Board and its subcommittees. There are ten vacancies on the NAREEE Advisory Board; three vacancies on the Specialty Crop Committee; and three vacancies on the National Genetics Advisory Council. Nominations submitted during the original submission period do not need to be resubmitted.

DATES: All nomination materials should be submitted in a single, complete package and received or postmarked by August 31, 2017.

ADDRESSES: The nominee's name, resume or CV, completed and signed Form AD-755, and any letters of support must be submitted via one of the following methods: (1) Email to nareeeab@ars.usda.gov; or (2) By mail delivery service to Sonny Perdue, Secretary, U.S. Department of Agriculture, 1400 Independence Avenue SW., Washington, DC 20250, Attention: NAREEE Advisory Board, Room 332A, Whitten Building.

FOR FURTHER INFORMATION CONTACT: Michele Esch, Director, National Agricultural Research, Extension, Education, and Economics Advisory Board, 1400 Independence Avenue SW., Room 332A, The Whitten Building, Washington, DC 20250-2255; telephone: 202-720-3684; fax: 202-720-6199; email: nareeeab@ars.usda.gov. Committee Web site: www.nareeeab.ree.usda.gov.

SUPPLEMENTARY INFORMATION: On June 16, 2017, the U.S. Department of Agriculture announced in a Federal Register notice that it was soliciting nominations for membership to fill vacancies on the National Agricultural Research, Extension, Education, and Economics Advisory Board and its subcommittees. The closing date for nominations was July 31, 2017. This notice reopens the nomination period until August 31, 2017 and an additional category for solicitation has been added. Nominations submitted during the original submission period do not need to be resubmitted. Nominations for the Citrus Disease Subcommittee will no longer be accepted; all positions are currently filled.

Instructions for Nominations: Nominations are solicited from organizations, associations, societies, councils, federations, groups, and companies that represent a wide variety of food and agricultural interests throughout the country. Nominations for one individual who fits several of the categories listed above, or for more than one person who fits one category, will be accepted.

Nomination letters must indicate the specific category for which the nominee is applying (i.e., for the Specialty Crop Committee or the National Genetics Advisory Council). Each nominee must submit a signed form AD-755, “Advisory Committee Membership Background Information,” which can be obtained from the contact person below or from: https://www.ocio.usda.gov/sites/default/files/docs/2012/AD-755%20-%20Approved%20Master%202015.pdf).

Nominations are open to all individuals without regard to race, color, religion, sex, national origin, age, mental or physical handicap, marital status, or sexual orientation. To ensure the recommendation of the Advisory Board take into account the needs of the diverse groups served by the USDA, membership shall include, to the extent practicable, individuals with demonstrated ability to represent the needs of all racial and ethnic groups, women and men, and persons with disabilities.

Please note, individuals may not serve on more than one USDA Federal Advisory Committee. Lobbyists who are registered with the Federal Government and who are selected to serve on committees to exercise their own individual best judgment on behalf of the government (e.g. as Special Government Employees) are ineligible to serve.

All nominees will be carefully reviewed for their expertise, leadership, and relevance.

All nominees will be vetted before selection.

Appointments to the NAREEE Advisory Board and its subcommittees will be made by the Secretary of Agriculture.

NAREEE Board: The NAREEE Advisory Board was established in 1996 via Section 1408 of the National Agricultural Research, Extension, and Teaching Policy Act of 1977 (7 U.S.C. 3123) to provide advice to the Secretary of Agriculture and land-grant colleges and universities on top priorities and policies for food and agricultural research, education, extension, and economics. Section 1408 of the National Agricultural Research, Extension, and Teaching Policy Act of 1977 was amended by the Farm Security and Rural Investment Act of 2002 to reduce the number of members on the NAREEE Advisory Board to 25 members and required the Board to also provide advice to the Committee on Agriculture of the House of Representatives; the Committee on Agriculture, Nutrition, and Forestry of the Senate; the Subcommittee on Agriculture, Rural Development, Food and Drug Administration and Related Agencies of the Committee on Appropriations of the House of Representatives; and the Subcommittee on Agriculture, Rural Development and Related Agencies of the Committee on Appropriations of the Senate.

Since the Advisory Board's inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996, and one-third of its members were appointed for a 1-, 2-, and 3-year term, respectively. The terms for ten members who represent specific categories will expire September 30, 2017. Nominations for a 3-year appointment for these ten vacant categories are sought. All nominees will be carefully reviewed for their expertise, leadership, and relevance to a category.

The ten slots to be filled are:

Category B. Farm Cooperatives

Category D. Plant Commodity Producer

Category E. National Aquaculture Association

Category H. National Food Science Organization

Category J. National Nutritional Science Society

Category K. 1862 Land-Grant Colleges and Universities

Category V. National Forestry Group

Category W. National Conservation or Natural Resource Group

Category Y. National Social Science Association

Category X. Private Sector Organization involved in International Development

Specialty Crop Committee: The Specialty Crop Committee was created as a subcommittee of the NAREEE Advisory Board in accordance with the Specialty Crops Competitiveness Act of 2004 under Title III, Section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a granting program of the National Institute of Food and Agriculture.

Members should represent the breadth of the specialty crop industry. Six members of the Specialty Crop Committee are also members of the NAREEE Advisory Board and six members represent various disciplines of the specialty crop industry. The terms of three members will expire on September 30, 2017. The Specialty Crop Committee is soliciting nominations to fill three vacant positions to represent the specialty crop industry. Appointed members will serve three years with their terms expiring in September 2020.

National Genetic Resources Advisory Council: The National Genetic Resources Advisory Council was re-established in 2012 as a permanent subcommittee of the NAREEE Advisory Board to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation.

The National Genetic Resources Advisory Council membership is required to have two-thirds of the appointed members from scientific disciplines relevant to the National Genetic Resources Program, including agricultural sciences, environmental sciences, natural resource sciences, health sciences, and nutritional sciences; and one-third of the appointed members from the general public including leaders in fields of public policy, trade, international development, law, or management.

The terms of three members of the National Genetic Resources Advisory Council will expire on September 30, 2017. We are seeking nominations for a 3-year appointment effective October 1, 2017 through September 30, 2020. The three slots to be filled are to be composed of two scientific members and one general public member.

Citrus Disease Subcommittee: USDA will no longer be accepting nomination packages for the Citrus Disease Subcommittee. All positions are currently filled.

Done at Washington, DC, this day of August 21, 2017.
Ann Bartuska,
Acting Under Secretary, Research, Education, and Economics.

[FR Doc. 2017-18180 Filed 8-25-17; 8:45 am]

BILLING CODE 3410-03-P